SMALL BUSINESS ADMINISTRATION

[Declaration of Disaster #3358]

State of Mississippi

Rankin County and the contiguous counties of Copiah, Hinds, Madison, Scott, Simpson and Smith constitute a disaster area due to damages caused by severe thunderstorms and flash floods that occurred on August 12, 2001. Applications for loans for physical damage as a result of this disaster may be filed until the close of business on October 15, 2001 and for economic injury until the close of business on May 16, 2002 at the address listed below or other locally announced locations: U.S. Small Business Administration, Disaster Area 2 Office, One Baltimore Place, Suite 300, Atlanta, GA 30308.

The interest rates are:

For Physical Damage

Homeowners with Credit Available Elsewhere: 6.750%

Homeowners without Credit Available Elsewhere:3.375%

Businesses with Credit Available Elsewhere: 8.000%

Businesses and Non-Profit Organizations without Credit Available Elsewhere: 4.000%

Others (Including Non-Profit Organizations) with Credit Available Elsewhere: 7.125%

For Economic Injury

Businesses and Small Agricultural Cooperatives Without Credit Available Elsewhere: 4.000%

The number assigned to this disaster for physical damage is 335811 and for economic injury the number assigned is 9M3400.

(Catalog of Federal Domestic Assistance Program Nos. 59002 and 59008)
Dated: August 6, 2001.
John Whitmore,
Acting Administrator.

[FR Doc. 01-21346 Filed 8-22-01; 8:45 am]

BILLING CODE 8025-01-P